LEGAL SERVICES CORPORATION

Development of a National Reporting System to Collect Performance and “Outcomes” information on the Results of the Services Provided by LSC-funded Grantees to Eligible Clients

AGENCY: Legal Services Corporation.

ACTION: Request for Information on the Development of a National Reporting System to Collect Performance and “Outcomes” Information on the Results of the Services Provided by LSC-funded Grantees to Eligible Clients.

SUMMARY: This notice is a request for information for use by the Legal Services Corporation regarding the Development of a National Reporting System to Collect “Outcomes” Information on the Results of the Services Provided by LSC-funded grantees to Eligible Clients.

ADDRESSES: Two (2) copies of written submissions should be addressed to Wendy Burnette, Legal Services Corporation, 750 First Street NE., Washington, DC 20002-4250.

DATES: Information must be submitted by 5 p.m., September 28, 2002.

FOR FURTHER INFORMATION CONTACT: Randi Youells or Michael Genz, Legal Services Corporation, 750 1st Street NE., Washington, DC 20002-4250.

SUPPLEMENTARY INFORMATION: The Legal Services Corporation (LSC) is a private, nonprofit corporation established by the Congress of the United States to ensure equal access to justice under the law by providing legal assistance in civil matter to low-income individuals. LSC is headed by an 11-member board of directors, appointed by the President and confirmed by the Senate.

LSC does not itself provide legal services to low-income Americans. The Corporation is authorized by Congress to make grants and contracts to support the provision of civil legal assistance to clients who meet eligibility requirements. LSC develops and administers policy consistent with Congressional mandate, secures and receives federal appropriations and allocates these appropriations to not-for-profit legal services organizations throughout the county; assures that grantees of LSC funds comply with federal law and regulations; and guarantees the delivery of high quality services to eligible low-income people in the United States and its territories. LSC makes grants to organizations that provide legal assistance to indigent persons throughout the United States, Puerto Rico, the District of Columbia, the U.S. Virgin Islands, Guam, and Micronesia. LSC grants federal dollars to independent local programs chosen through a system of competition.

As a delivery system, legal services programs provide a full range of services to eligible clients. While grantees provide many kinds of services to clients, all are reported to LSC as either cases (the CSR reporting system) or matters (the MSR reporting system). However, neither CSR nor MSR statistics give any information on the outcome of a particular case. In fact, the CSR system reveals very little about a case closed by and LSC-funded grantee other than the following:

• That the grantee accepted the case, that is, the case met the eligibility guidelines established by the program's board and by LSC;

• That the case was ‘completed’ or closed within the calendar year covered by the CSR submission;

• The manner in which the case was handled, such as ‘advice’; and

• The general area of law in which the case falls (e.g., housing law, family law).

This is perceived as problematic for several reasons:

(1) By simply counting closed cases the CSR system reduces the provision of legal services to a number rather than helping us understand what changes grantees have made in the lives of our clients and their communities.

(2) Reducing to a single number (a ‘closed case’) the services that a grantee provides to a client makes the work of grantees seem easy and undemanding.

(3) Because the CSR data do not measure performance and outcomes, it does not allow LSC and its grantees to objectivity track whether we are expanding access and improving performance quality as required by LSC's five-year Strategic Plan.

(4) CSR data do not allow for comparisons of grantees in terms of the efficiency and effectiveness of grantees' work for clients. Although we are able to extrapolate ‘cost-per-case’ from the CSR data, the data do not enable us to identify which grantees are working ineffectively or do not otherwise meet the standards commonly expected of high quality legal services providers. Conversely, we cannot objectivity identify our strongest programs so that we can understand what makes them ‘best’ in order to replicate them.

(5) The CSR/MSR data do not present information that allows the legal service community to draw reasonable conclusions about what happened to those clients who were given advice or brief service, or who received assistance through a service classified by LSC as a ‘matter,’ such as the receipt of community legal education materials.

Request for Information

LSC invites interested parties to submit written information relevant to the development of outcomes measures for legal services programs. Information provided through public submission will be considered by the Legal Services Corporation in developing a strategy to design a data system to supplant or supplement the current CSR and MSR systems.

Materials submitted should be confined to the specific topic of the study. In particular, the LSC is seeking written submissions on the following topics: outcomes and related performance measurement systems for legal services programs currently in use across the country; optimal ways to assess equity, quality, and efficiency within and across legal services agencies; the types of performance information that can and should be tracked in a viable performance measurement system; performance measurement in relation to other evaluation activities; the performance measurement development process; and optimal ways of assessing the accuracy and usefulness of performance measurement systems.

Information acquired through this Request for Information process is provided voluntarily, will not be compensated and will not obligate LSC to pursue any particular course of action or strategy.

Victor M. Fortuno,
General Counsel and Vice President for Legal Affairs.

[FR Doc. 02-21167 Filed 8-19-02; 8:45 am]

BILLING CODE 7050-01-M